DEPARTMENT OF LABOR

Employment and Training Administration

Proposed Collection for the ETA 191, Statement of Expenditures and Financial Adjustments of Federal Funds for Unemployment Compensation for Federal Employees and Ex-Servicemembers; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506 (c)(2)(A)]. This program helps to ensure that requested data can be provided in the desired format, reporting burden (time and financial resources) is minimized, collection instruments are clearly understood, and the impact of collection requirements on respondents can be properly assessed. Currently, the Employment and Training Administration, Office of Workforce Security is soliciting comments concerning the proposed extension of the collection for the ETA 191, Statement of Expenditures and Financial Adjustments of Federal Funds for Unemployment Compensation for Federal Employees and Ex-Servicemembers. A copy of the proposed information collection request (ICR) can be obtained by contacting the office listed below in the addressee section of this notice or by accessing: http://www.doleta.gov/Performance/guidance/OMBControlNumber.cfm.

DATES: Written comments must be submitted to the office listed in the addressee section below on or before June 23, 2006.

ADDRESSES: Thomas Stengle, U.S. Department of Labor, Employment and Training Administration, Room S4231, 200 Constitution Avenue, NW., Washington, DC 20210, Phone:(202)693-2991 (This is not a toll-free number), Fax: (202) 693-2874, e-mail: stengle.thomas@dol.gov.

SUPPLEMENTARY INFORMATION:

I. Background

Public Law 97-362, Miscellaneous Revenue Act of 1982, amended the Unemployment Compensation for Ex-Servicemembers (UCX) law (5 U.S.C. 8509), and Public Law 96-499, Omnibus Budget Reconciliation Act, amended the Unemployment Compensation for Federal Employees (UCFE) law (5 U.S.C. 8501, et. seq.) requiring each Federal employing agency to pay the costs of regular and extended UCFE/UCX benefits paid to its employees by the State Workforce Agencies (SWAs). The ETA 191 report submitted quarterly by each SWA shows the amount of benefits that should be charged to each Federal employing agency. The Office of Workforce Security uses this information to aggregate the SWA quarterly charges and submit one official bill to each Federal agency being charged. Federal agencies then reimburse the Federal Employees Compensation (FEC) Account maintained by the U.S. Treasury.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Regular.

Agency: Employment and Training Administration

Title: Statement of Expenditures and Financial Adjustments of Federal Funds for Unemployment Compensation for Federal Employees and Ex-Servicemembers (UCFE/UCX)

OMB Number: 1205-0162.

Agency Form Number: ETA 191.

Affected Public: State Government.

Total Respondents: 53.

Estimated Total Burden Hours: 212.

Total Burden Cost (capital/startup): $0.

Total Burden Cost (operating/maintaining): $0.

Comments submitted in response to this comment request will be summarized and/or included in the request for Office of Management and Budget approval of the information collection request; they will also become a matter of public record.

Dated: April 11, 2006.
Cheryl Atkinson,
Administrator, Office of Workforce Security.

[FR Doc. E6-6080 Filed 4-21-06; 8:45 am]

BILLING CODE 4510-30-P